DEPARTMENT OF JUSTICE

National Institute of Corrections

Advisory Board Meeting

Time and Date: 8:30 a.m. to 5 p.m. on Monday, March 31, 2003 and 8:30 a.m. to 12 noon on Tuesday, April 1, 2003.

Place: The Churchill Hotel, 1914 Connecticut Avenue NW., Washington, DC 20009.

Status: Open.

Matters To Be Considered: Division reports concerning Fiscal Year 2004 Service Plan and Fiscal Year 2005 Budget Recommendations; Report by the Department of Health and Human Services; NIC Information Center update; Discussion concerning executive training programs; Quarterly Report by Office of Justice Programs; and updates on NIC's strategic planning and Interstate Compact activities.

Contact Person for More Information: Larry Solomon, Deputy Director, 202-307-3106, ext. 44254.

Morris L. Thigpen,
Director.

[FR Doc. 03-2505 Filed 2-3-03; 8:45 am]

BILLING CODE 4410-35-M